LIBRARY OF CONGRESS

Copyright Office

37 CFR Part 201

[Docket No. 2002-5B]

Notice of Termination

AGENCY: Copyright Office, Library of Congress.

ACTION: Final regulation.

SUMMARY: The Copyright Office's interim rule governing the form, content, and manner of service of notices of termination of transfers and licenses granted by authors on or after 1978 is being adopted as a final rule with one change. Beginning on January 1, 2003, copyright owners have been able to serve notices of termination on certain copyright transferees and licensees under an interim rule effective on that date. The Office is now adopting an additional amendment that was set forth in the proposed rule published in the Federal Register on December 20, 2002.

EFFECTIVE DATE: May 8, 2003.

FOR FURTHER INFORMATION CONTACT: David O. Carson, General Counsel, Copyright GC/I&R, PO Box 70400, Southwest Station, Washington, DC 20024. Telephone: (202)707-8380. Fax: (202)707-8366.

SUPPLEMENTARY INFORMATION: Section 203 of the Copyright Act, 17 U.S.C. 203, provides that under certain circumstances, authors may terminate grants of transfers or licenses of copyright entered into after January 1, 1978. Such terminations may be made during a five-year period commencing 35 years after the execution of the grant or, if the grant included the right of publication, the earlier of 35 years after publication pursuant to the grant or 40 years after the execution of the grant. January 1, 2003, was the first date on which a termination could be made pursuant to section 203. In order to have regulations in place by January 1, the Copyright Office published an interim rule on December 23, 2002. 67 FR 78176.

On December 20, 2002, the Copyright Office published a notice of proposed rulemaking governing termination of transfers and licenses pursuant to section 203 of the Copyright Act. Notice of Proposed Rulemaking, Notice of Termination, 67 FR 77951. The Office proposed to amend 37 CFR 201.10, the existing regulation governing notices of termination under section 304 of the Copyright Act, 17 U.S.C. 304, by adding provisions relating to terminations under section 203.

On December 23, 2002, the Office published an interim rule, effective January 1, 2003, which differs from the proposed rule in only one respect. The proposed rule amended § 201.10(b)(1)(i) of the Copyright Office regulations to require that a notice of termination pursuant to section 17 U.S.C. 304 must identify whether the termination is made under section 304(c) or section 304(d). Because this proposed amendment would change established practice with respect to terminations under section 304(c), and because the Office did not believe it would be prudent to change the requirements for section 304 notices of termination on such short notice, that proposed amendment was not included in the interim rule. It is included in this final rule.

The comment period for the notice of proposed rulemaking has closed and the Office has received no comments. For that reason, and for the reasons outlined in the Notice of Proposed Rulemaking, the Office has decided to adopt, as a final rule, the December 23 Interim Rule, with the change proposed on December 20.

The entire text of § 201.10, as amended, may be found on the Copyright Office Web site at http://www.copyright.gov/docs/203.html.

List of Subjects in 37 CFR Part 201

Copyright.

Final Regulation

In consideration of the foregoing, the Copyright Office adopts the interim rule published on December 23, 2002 (67 FR 78176) as final, with the following change:

PART 201—GENERAL PROVISIONS

1. The authority citation for part 201 continues to read as follows:

Authority: 17 U.S.C. 702.

2. Section 201.10 is amended in paragraph (b)(1)(i), by removing “If the termination is made under section 304(d), a statement to that effect;” and adding, in its place, “Whether the termination is made under section 304(c) or under section 304(d);”.

Dated: March 25, 2003.
Marybeth Peters,
Register of Copyrights.
Approved by:
James H. Billington,
Librarian of Congress.

[FR Doc. 03-8540 Filed 4-7-03; 8:45 am]

BILLING CODE 1410-30-P